DEPARTMENT OF HEALTH AND HUMAN SERVICES

Administration for Children and Families

Proposed Information Collection Activity; Comment Request

Proposed Projects

Title: Head Start Collaboration Office Annual Report.

OMB No.: New.

Description: The Office of Head Start within the Administration for Children and Families, United States Department of Health and Human Services, is proposing to collect information on the goals, work completed, and accomplishments of the Head Start Collaboration Offices (HSCOs). HSCOs facilitate partnerships between Head Start agencies and other state entities that provide services to benefit low income children and their families. HSCOs are awarded funds under Section 642B of the 2007 Head Start Act. The HSCO Annual Report is to be reported annually by all HSCO to ascertain progress and measurable results for the previous year. The results will also be used to populate the Collaboration Office profile Web pages on Early Childhood Learning & Knowledge Center (ECLKC) to promote the accomplishments of HSCO.

Respondents: Head Start State and National Collaboration Offices.

Annual Burden Estimates
Instrument | Number of respondents | Number of responses per respondent | Average burden hours per response | Total burden hours
HSCO Annual Report | 54 | 1 | 4 | 216

Estimated Total Annual Burden Hours: 216.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden information to be collected; and (d) ways to minimize the burden of the collection of information on respondents, including through the use of automated collection techniques or other forms of information technology. Consideration will be given to comments and suggestions submitted within 60 days of this publication.

Robert Sargis,
Reports Clearance Officer.

[FR Doc. 2015-14626 Filed 6-12-15; 8:45 am]

BILLING CODE 4184-01-P